DEPARTMENT OF TRANSPORTATION

Federal Aviation Administration

14 CFR Part 39

[Docket No. FAA-2012-0803; Directorate Identifier 2011-NM-214-AD; Amendment 39-17419; AD 2013-08-02]

RIN 2120-AA64

Airworthiness Directives; The Boeing Company Airplanes

AGENCY: Federal Aviation Administration (FAA), DOT.

ACTION: Final rule.

SUMMARY: We are superseding an existing airworthiness directive (AD) that applies to all The Boeing Company Model 777-200, -200LR, -300, and -300ER series airplanes. That AD currently requires repetitive inspections for cracking of the elevator actuator fittings. This new AD requires, for previously modified airplanes, repetitive inspections for movement of the fittings or fastener heads, and eventual replacement of certain bolts (including related investigative and corrective actions if necessary). For all airplanes, this replacement, with corrected torque values, would terminate the requirements of the existing AD. This new AD also removes certain airplanes from the applicability. This AD was prompted by the manufacturer's development of a modification that was approved as an optional terminating action to the existing AD's required repetitive inspections. We have been advised that the modification procedures include certain incorrect torque values. We are issuing this AD to detect and correct a cracked actuator fitting or incorrectly installed bolts to the actuator fitting, which could lead to the elevator becoming detached and unrestrained, and a consequent unacceptable flutter condition and loss of control of the airplane.

DATES: This AD is effective May 24, 2013.

The Director of the Federal Register approved the incorporation by reference of certain publications listed in the AD as of May 24, 2013.

The Director of the Federal Register approved the incorporation by reference of a certain other publication listed in this AD as of January 22, 2008 (72 FR 71212, December 17, 2007).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Melanie Violette, Aerospace Engineer, Airframe Branch, ANM-120S, FAA, Seattle Aircraft Certification Office, 1601 Lind Avenue SW., Renton, WA 985057-3356; phone: 425-917-6422; fax: 425-917-6590; email: melanie.violette@faa.gov.

SUPPLEMENTARY INFORMATION:

Discussion

We issued a notice of proposed rulemaking (NPRM) to amend 14 CFR part 39 to supersede AD 2007-26-05, Amendment 39-15307 (72 FR 71212, December 17, 2007). That AD applies to the specified products. The NPRM published in the Federal Register on August 3, 2012 (77 FR 46340). The NPRM proposed to continue to require repetitive dye penetrant or high-frequency eddy current (HFEC) inspections, or detailed inspections for cracking of the elevator actuator fittings, and replacement of any cracked fitting. The NPRM also proposed to require, for previously modified airplanes, repetitive inspections for movement of the fittings or fastener heads, and eventual replacement of certain bolts (including related investigative and corrective actions if necessary). For all airplanes, this replacement, with corrected torque values, would terminate the requirements of the existing AD. The NPRM also proposed to remove certain airplanes from the applicability.

Comments

We gave the public the opportunity to participate in developing this AD. The following presents the comments received on the proposal (77 FR 46340, August 3, 2012) and the FAA's response to each comment.

Support for the NPRM (77 FR 46340, August 3, 2012)

Boeing supports the NPRM (77 FR 46340, August 3, 2012).

Request To Amend Installed Part Number (P/N)

Air New Zealand requested that we revise the NPRM (77 FR 46340, August 3, 2012) to require that the installed part number be amended to reflect accomplishment of Boeing Alert Service Bulletin 777-55A0016, Revision 1, dated August 25, 2011, instead of the current data plate modification. Air New Zealand explained that the benefits of Boeing re-numbering the modified elevator assembly would be to ensure that the airplane shows clear pre/post modification configuration of the elevator assemblies, and also that the part number changes would add clarity. Air New Zealand reasoned that, otherwise, installing a pre-modified elevator and not re-instating the repeat inspection per Boeing Alert Service Bulletin 777-55A0015 would be an unsafe condition and that the airplane would be out of compliance with the NPRM.

Air New Zealand also indicated that accomplishment of Boeing Alert Service Bulletin 777-55A0016, Revision 1, dated August 25, 2011, leaves the elevator assembly part number unaffected, but the elevator data plate has the service bulletin added to it. Air New Zealand also noted that Boeing Alert Service Bulletin 777-55A0016, Revision 1, dated August 25, 2011, modifies the elevator as a stand-alone component and does not affect the airframe. Further, Air New Zealand stated that the elevator assembly is an interchangeable component, but the current illustrated parts catalog (IPC) does not show a one-way part interchangeability with pre- and post-embodiment of Boeing Alert Service Bulletin 777-55A0016, Revision 1, dated August 25, 2011, terminating action assemblies due to the part number remaining unchanged.

Air New Zealand expressed that, if an operator accomplishes Boeing Alert Service Bulletin 777-55A0016, Revision 1, dated August 25, 2011, the repeat inspections of Boeing Alert Service Bulletin 777-55A0015 are terminated. Air New Zealand stated that the risk is that if an unscheduled maintenance occurs that replaces the elevator, the operator could potentially install a pre-modified elevator and not reinstate the repeat mandatory inspections specified in Boeing Alert Service Bulletin 777-55A0015, because no part number changed and no IPC interchangeability information was available.

We do not agree to revise this AD to require that the installed part number be amended instead of the current data plate modification. The operator is responsible for ensuring that each airplane is maintained in an airworthy condition, and is in compliance with all regulations. FAA Advisory Circular 39-9, “Airworthiness Directives Management Process,” Change 2, dated December 7, 2012 (http://rgl.faa.gov/Regulatory_and_Guidance_Library/rgAdvisoryCircular.nsf/0/31573c7680b14363862578a80051646f/$FILE/AC%2039-9%20CHG%202.pdf), describes acceptable means for complying with Part 39 requirements for ADs. Boeing has amended the elevator part number, effective with airplane line number 718, which had the modified fitting installed in production. The IPC currently shows that the new elevator (P/N 183W0061-17/18) may not be replaced by an older one (e.g., P/N 183W0061-15/16).

However, we have discovered the existence of a P/N 183W0001 elevator interchangeability drawing, internal to Boeing, which potentially could permit parts covered within the scope of this AD to be installed on airplanes beyond the scope of this AD. Therefore, we have added new paragraph (m) to this AD that explicitly prohibits the use of the elevator interchangeability drawing with this AD, to preclude its use in the event that the drawing becomes available to operators.

Request To Allow for Optional Replacement

American Airlines (AA) requested that we revise the NPRM (77 FR 46340, August 3, 2012) to allow for optional replacement of the fittings with new, improved fittings using Boeing Alert Service Bulletin 777-55A0016, Revision 1, dated August 25, 2011.

We agree with the request to allow for optional replacement of the fittings with new, improved fittings using Boeing Alert Service Bulletin 777-55A0016, Revision 1, dated August 25, 2011. Paragraph (i) of the NPRM (77 FR 46340, August 3, 2012) already allows for the optional replacement of the fittings with new fittings using Boeing Alert Service Bulletin 777-55A0016, Revision 1, dated August 25, 2011. No change is necessary in this regard.

Request To Exclude Requirement From Service Bulletin in NPRM (77 FR 46340, August 3, 2012)

AA requested that we revise the NPRM (77 FR 46340, August 3, 2012) to state that the instruction to “Put the airplane back to serviceable condition,” which is found in Boeing Alert Service Bulletin 777-55A0016, Revision 1, dated August 25, 2011, is not required by the NPRM. AA explained that this requirement does not affect the condition that the NPRM seeks to address. AA reasoned that, as most operators will accomplish these modifications as part of a maintenance visit, returning the airplane to a serviceable condition will not be possible in the context of that statement, but would occur instead at a point in time well after this work is complete.

We agree with the request to state that the phrase “Put the airplane back to serviceable condition,” which is referenced in the service information specified in this AD, is not mandated by this final rule. Other regulations require restoring the airplane to serviceable condition before further flight. Therefore, we added an exception in a new paragraph (j)(2) of this AD regarding the language in the service information. In addition, we added a reference to paragraph (j)(2) in paragraphs (g)(1), (g)(2), (h), (h)(1)(ii), (h)(2) and (i) of this AD.

Request for Credit for Elevator Installation

United Airlines (UA) requested that we revise the NPRM (77 FR 46340, August 3, 2012) to include terminating action credit for the installation of a new elevator, as specified by Boeing Alert Service Bulletin 777-55A0016, dated October 27, 2009, including the correct torque values specified in Boeing Alert Service Bulletin 777-55A0016, Revision 1, dated August 25, 2011. UA explained that paragraph (k) of the NPRM (paragraph (l) of this final rule) does not provide credit for installation of a new elevator that has complied with the actions specified in Boeing Alert Service Bulletin 777-55A0016, dated October 27, 2009, including the correct torque values specified in Boeing Alert Service Bulletin 777-55A0016, Revision 1, dated August 25, 2011. UA expressed that, following accomplishment of Boeing Alert Service Bulletin 777-55A0016, dated October 27, 2009, using the higher torque values, it removed both elevators and inspected the fasteners using Boeing procedures. UA stated that damage was found on the right-hand elevator and it elected to replace the existing elevator (-2B) with a new production elevator (-18B), which had the post-service bulletin configuration with the new actuator fittings installed from production using the correct torque values for the fasteners.

We agree to allow replacement of elevators, as an additional method of compliance for this AD. We have added paragraph (k) to this final rule to allow replacement.

Explanation of Change Made to This AD

We have clarified in paragraph (g)(2) of this final rule, that after the effective date of this AD, Boeing Service Bulletin 777-55A0015, Revision 3, dated November 24, 2009, must be used to accomplish the actions required by paragraph (g)(2) of this final rule.

Conclusion

We reviewed the relevant data, considered the comments received, and determined that air safety and the public interest require adopting the AD with the changes described previously—and minor editorial changes. We have determined that these minor changes:

• Are consistent with the intent that was proposed in the NPRM (77 FR 46340, August 3, 2012) for correcting the unsafe condition; and

• Do not add any additional burden upon the public than was already proposed in the NPRM (77 FR 46340, August 3, 2012)

We also determined that these changes will not increase the economic burden on any operator or increase the scope of the AD.

Costs of Compliance

We estimate that this AD affects 139 airplanes of U.S. registry.

We estimate the following costs to comply with this AD:

Estimated Costs
Action | Labor cost | Parts cost | Cost per product | Cost on U.S. operators
Inspection (retained actions from AD 2007-26-05, Amendment 39-15307 (72 FR 71212, December 17, 2007)) | 10 work-hours × $85 per hour = $850, per inspection cycle | $0 | $850, per inspection cycle | $118,150, per inspection cycle.
Inspection (new action) | 14 work-hours × $85 per hour = $1,190, per inspection cycle | 0 | $1,190 | Up to $165,410, per inspection cycle.

We estimate the following costs to do any necessary replacements that would be required based on the results of the inspections. We have no way of determining the number of aircraft that might need these replacements:

On-Condition Costs
Action | Labor cost | Parts cost | Cost per product
Fitting replacement | 132 work-hours × $85 per hour = $11,220 | $21,643 | $32,863
Bolt replacement | 105 work-hours × $85 per hour = $8,925 | $65 | $8,990

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-26-05, Amendment 39-15307 (72 FR 71212, December 17, 2007), and adding the following new AD:

2013-08-02 The Boeing Company: Amendment 39-17419; Docket No. FAA-2012-0803; Directorate Identifier 2011-NM-214-AD.

(a) Effective Date

This airworthiness directive (AD) is effective May 24, 2013.

(b) Affected ADs

This AD supersedes AD 2007-26-05, Amendment 39-15307 (72 FR 71212, December 17, 2007).

(c) Applicability

This AD applies to The Boeing Company Model 777-200, -200LR, -300, and -300ER series airplanes, certificated in any category, as identified in Boeing Alert Service Bulletin 777-55A0016, Revision 1, dated August 25, 2011.

(d) Subject

Joint Aircraft System Component (JASC)/Air Transport Association (ATA) of America Code 55, Stabilizers.

(e) Unsafe Condition

This AD was prompted by a report of a cracked left elevator actuator fitting, and the recent determination that certain incorrect torque values had been specified for an alternative method of compliance intended to terminate the requirements of AD 2007-26-05, Amendment 39-15307 (72 FR 71212, December 17, 2007). We are issuing this AD to detect and correct a cracked actuator fitting or incorrectly installed bolts to the actuator fitting, which could lead to the elevator becoming detached and unrestrained, and a consequent unacceptable flutter condition and loss of control of the airplane.

(f) Compliance

Comply with this AD within the compliance times specified, unless already done.

(g) Retained Inspections and Corrective Actions With Revised Service Information

This paragraph restates the inspections and corrective actions required by paragraph (f) of AD 2007-26-05, Amendment 39-15307 (72 FR 71212, December 17, 2007), with revised service information.

(1) Except as provided by paragraph (j)(2) of this AD: Do all inspections and actions described in paragraphs (g)(1) and (g)(2) of this AD, in accordance with the Accomplishment Instructions of Boeing Alert Service Bulletin 777-55A0015, dated April 19, 2007; or Boeing Service Bulletin 777-55A0015, Revision 3, dated November 24, 2009. At the applicable time specified in paragraph 1.E., “Compliance,” of Boeing Alert Service Bulletin 777-55A0015, dated April 19, 2007, except as provided by paragraph (g)(3) of this AD, do an initial dye penetrant or high frequency eddy current (HFEC) inspection for cracking of the elevator actuator fittings, and, thereafter, do repetitive dye penetrant, HFEC, or detailed inspections at the applicable times specified in paragraph 1.E., “Compliance,” of Boeing Alert Service Bulletin 777-55A0015, dated April 19, 2007. As of the effective date of this AD, Boeing Service Bulletin 777-55A0015, Revision 3, dated November 24, 2009, must be used to accomplish the actions required by this paragraph.

(2) Before further flight, replace any fitting found to be cracked during any inspection required by paragraph (g)(1) of this AD with a new fitting having the same part number, or an optional part number, as identified in Boeing Alert Service Bulletin 777-55A0015, dated April 19, 2007; or Boeing Service Bulletin 777-55A0015, Revision 3, dated November 24, 2009; except as provided by paragraph (j)(2) of this AD. Thereafter, do initial and repetitive inspections of the replacement fitting at the time specified in paragraph 1.E., “Compliance,” of Boeing Alert Service Bulletin 777-55A0015, dated April 19, 2007. As of the effective date of this AD, Boeing Service Bulletin 777-55A0015, Revision 3, dated November 24, 2009, must be used to accomplish the actions required by this paragraph.

(3) Where Boeing Alert Service Bulletin 777-55A0015, dated April 19, 2007, specifies a compliance time after the date on that service bulletin, this AD requires compliance within the specified compliance time after January 22, 2008 (the effective date of AD 2007-26-05, Amendment 39-15307 (72 FR 71212, December 17, 2007)).

(h) New Additional Actions for Certain Airplanes

For airplanes on which the elevator actuator fitting assemblies have been replaced using the fastener torque values specified in Boeing Alert Service Bulletin 777-55A0016, dated October 27, 2009: Within 180 days after the effective date of this AD, do a detailed inspection of the elevator actuator fitting assemblies to detect discrepancies (including indications of fastener head movement and fitting movement along the spar web), in accordance with the Accomplishment Instructions of Boeing Alert Service Bulletin 777-55A0016, Revision 1, dated August 25, 2011, except as provided by paragraph (j)(2) of this AD.

(1) If no discrepancy is detected, do the actions specified in paragraphs (h)(1)(i) and (h)(1)(ii) of this AD.

(i) Repeat the inspection thereafter at intervals not to exceed 90 days or 360 flight cycles, whichever occurs first, until the actions specified in paragraph (h)(1)(ii) of this AD are done.

(ii) Within 4,200 flight cycles or 750 days after the effective date of this AD, whichever occurs first, replace the 12 bolts common to the elevator actuator fitting and the spar web, and do all applicable related investigative and corrective actions, in accordance with the Accomplishment Instructions of Boeing Alert Service Bulletin 777-55A0016, Revision 1, dated August 25, 2011, except as provided by paragraphs (j)(1) and (j)(2) of this AD. Do all applicable related investigative and corrective actions before further flight. The replacement of all 12 bolts in accordance with the Accomplishment Instructions of Boeing Alert Service Bulletin 777-55A0016, Revision 1, dated August 25, 2011, terminates the requirements of paragraphs (g) and (h) of this AD for that fitting only.

(2) If any discrepancy is detected, before further flight, replace the 12 bolts common to the elevator actuator fitting and the spar web using new parts, and do all applicable related investigative and corrective actions, in accordance with the Accomplishment Instructions of Boeing Alert Service Bulletin 777-55A0016, Revision 1, dated August 25, 2011, except as provided by paragraphs (j)(1) and (j)(2) of this AD. Do all applicable related investigative and corrective actions before further flight. The replacement of all 12 bolts in accordance with the Accomplishment Instructions of Boeing Alert Service Bulletin 777-55A0016, Revision 1, dated August 25, 2011, terminates the requirements of paragraphs (g) and (h) of this AD for that fitting only.

(i) New Optional Replacement of Elevator Actuator Fitting Assembly

For airplanes on which the elevator actuator fitting assemblies have not been replaced as specified in Boeing Alert Service Bulletin 777-55A0016, dated October 27, 2009: Replacement of these fitting assemblies with new parts, in accordance with the Accomplishment Instructions of Boeing Alert Service Bulletin 777-55A0016, Revision 1, dated August 25, 2011, except as provided by paragraphs (j)(1) and (j)(2) of this AD, terminates the requirements of paragraphs (g) and (h) of this AD.

(j) Exceptions

(1) If any discrepancy or cracking is found during any inspection required by this AD, and Boeing Alert Service Bulletin 777-55A0016, Revision 1, dated August 25, 2011, specifies to contact Boeing for appropriate action: Before further flight, repair using a method approved in accordance with the procedures specified in paragraph (n) of this AD.

(2) Where the service bulletins identified in paragraphs (j)(2)(i), (j)(2)(ii), and (j)(2)(iii) of this AD specify to “Put airplane back in a serviceable condition,” this AD does not require that action.

(i) Boeing Alert Service Bulletin 777-55A0015, dated April 19, 2007.

(ii) Boeing Service Bulletin 777-55A0015, Revision 3, dated November 24, 2009.

(iii) Boeing Alert Service Bulletin 777-55A0016, Revision 1, dated August 25, 2011.

(k) New Optional Replacement of Elevator

Replacing the elevator with a new elevator terminates the requirements of paragraphs (g) and (h) of this AD, provided that the elevator actuator fitting configuration on the new elevator complies with the modification and bolt torque values defined in the Accomplishment Instructions of Boeing Alert Service Bulletin 777-55A0016, Revision 1, dated August 25, 2011.

(l) Credit for Previous Actions

This paragraph provides credit for inspecting and replacing actuator fittings, as required by paragraph (g) of this AD, if the inspection and replacement were performed before the effective date of this AD using a service bulletin specified in paragraph (l)(1) or (l)(2) of this AD, and using the correct torque values as specified in Boeing Alert Service Bulletin 777-55A0016, Revision 1, dated August 25, 2011.

(1) Boeing Service Bulletin 777-55A0015, Revision 1, dated January 31, 2008, which is not incorporated by reference in this AD.

(2) Boeing Service Bulletin 777-55A0015, Revision 2, dated December 4, 2008, which is not incorporated by reference in this AD.

(m) Parts Installation Prohibition

As of the effective date of this AD, no person may use the interchangeability table on Boeing Elevator Assembly Drawing 183W0001 (Table 1, Sheet 1), to install an elevator or elevator part on any airplane.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by The Boeing Commercial Airplanes Organization Designation Authorization (ODA) that has been authorized by the Manager, Seattle ACO, to make those findings. For a repair method to be approved, the repair must meet the certification basis of the airplane, and the approval must specifically refer to this AD.

(4) AMOCs approved previously in accordance with AD 2007-26-05, Amendment 39-15307 (72 FR 71212, December 17, 2007), are not approved as AMOCs for this AD.

(o) Related Information

(1) For more information about this AD, contact Melanie Violette, Aerospace Engineer, Airframe Branch, ANM-120S, FAA, Seattle Aircraft Certification Office, 1601 Lind Avenue SW., Renton, WA 985057-3356; phone: 425-917-6422; fax: 425-917-6590; email: melanie.violette@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington 985057-3356. For information on the availability of this material at the FAA, call 425-227-1221

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 24, 2013.

(i) Boeing Service Bulletin 777-55A0015, Revision 3, dated November 24, 2009.

(ii) Boeing Alert Service Bulletin 777-55A0016, Revision 1, dated August 25, 2011.

(4) The following service information was approved for IBR on January 22, 2008 (72 FR 71212, December 17, 2007).

(i) Boeing Alert Service Bulletin 777-55A0015, dated April 19, 2007.

(ii) Reserved.

(5) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at FAA, 1601 Lind Avenue SW., Renton, Washington. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on April 2, 2013.
Ali Bahrami,
Manager, Transport Airplane Directorate, Aircraft Certification Service.

[FR Doc. 2013-08742 Filed 4-18-13; 8:45 am]

BILLING CODE 4910-13-P